DEPARTMENT OF ENERGY

Federal Energy Regulatory Commission

Combined Notice of Filings #2

Take notice that the Commission received the following electric rate filings:

Docket Numbers: ER12-162-006; ER11-3876-008; ER11-2044-009; ER10-2611-006.

Applicants: Bishop Hill Energy II LLC, Cordova Energy Company LLC MidAmerican Energy Company, Saranac Power Partners, L.P.

Description: Notice of Change in Status under Market-Based Rate Authority of MidAmerican Energy Company.

Filed Date: 11/21/12.

Accession Number: 20121121-5080.

Comments Due: 5 p.m. ET 12/12/12.

Docket Numbers: ER13-443-000

Applicants: PJM Interconnection, L.L.C.

Description: Queue Position #T107, X3-004 & Y2-019—First Revised SA Nos. 3388 & 3409 to be effective 11/20/2012.

Filed Date: 11/21/12.

Accession Number: 20121121-5062.

Comments Due: 5 p.m. ET 12/12/12.

Docket Numbers: ER13-444-000.

Applicants: Southern California Edison Company.

Description: Amended SGIA & DSA to RE Victor Phelan Solar One Project to be effective 1/21/2013.

Filed Date: 11/21/12.

Accession Number: 20121121-5102.

Comments Due: 5 p.m. ET 12/12/12.

Take notice that the Commission received the following electric securities filings:

Docket Numbers: ES13-10-000.

Applicants: FirstEnergy Service Company, Jersey Central Power & Light Co.

Description: First Energy Service Company on behalf of Jersey Central Power & Light Company submits Emergency Application for Authorization to Issue Short-Term Debt Securities on a Temporary Basis, and Requests for Expedited Treatment and Partial Waiver of Filing Requirements.

Filed Date: 11/21/12.

Accession Number: 20121121-5110.

Comments Due: 5 p.m. ET 12/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2012.
Nathaniel J. Davis, Sr.,
Deputy Secretary.

[FR Doc. 2012-28958 Filed 11-29-12; 8:45 am]

BILLING CODE 6717-01-P